DEPARTMENT OF LABOR

Proposed Collection for the Benefits, Timeliness, and Quality Data Collection System; Comment Request

AGENCY: Employment and Training Administration, Labor.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the Benefits Timeliness and Quality (BTQ) data collection system, which is part of the Unemployment Insurance (UI) Performs measurement system.

A copy of the proposed information collection request (ICR) can be obtained by contacting the office listed below in the addressee section of this notice or by accessing: http://www.doleta.gov/OMBCN/OMBControlNumber.cfm.

DATES: Written comments must be submitted to the office listed in the addressee's section below on or before September 25, 2007.

ADDRESSES: Submit written comments to the Employment and Training Administration, Office of Workforce Security, 200 Constitution Avenue NW., Room C4522, Washington, DC 20210, Attention: Delores Mackall. Telephone number: 202-693-3183 (this is not a toll-free number). Fax: 202-693-3975. E-mail: Mackall.Delores@dol.gov.

SUPPLEMENTARY INFORMATION:

I. Background

The Secretary of Labor, under the Social Security Act, Title III, Section 302 (42 U.S.C. 502), funds the necessary cost of proper and efficient administration of each state UI law. The BTQ program collects information and analyzes data to do this. The BTQ data measure the timeliness and quality of states' administrative actions and administrative decisions related to UI benefit payments.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Revision of Approved Collection.

Agency: Employment and Training Administration.

Title: Benefits, Timeliness, and Quality Review.

OMB Number: 1205-0359.

Affected Public: State governments.

Agency Numbers: ETA-9050, ETA-9051, ETA-9052, ETA-9054, ETA-9055, ETA-9056, ETA-9057. ETA 9053, a previous form, was eliminated, resulting in a reduction in burden of 636 hours.

Record Keeping: State governments.

Cite/Reference/Form/etc: Section 303 of Title III of the Social Security Act.

Total Respondents: 53 state agencies.

Frequency: Monthly and Quarterly.

Total Responses: 28,276.

Average Time per Response: 80 minutes.

Summary of Burden:

Monthly Universe Measures: State Staff Hours per Year
ETA report | Measure | Number of respondents | Reports per year | Total responses | Hrs. per resp. | Total hrs/year
9050 | First Payment Time Lapse, Core Measure | 53 | 12 | 636 | .5 | 318
9050 | First Payment Time Lapse, Partial/Part Total Claims, Management Information Measure | 53 | 12 | 636 | .5 | 318
9050 | First Payment Time Lapse, Workshare Claims, Management Information Measure | 53 | 12 | 636 | .5 | 318
9051 | Continued Weeks Compensated Time Lapse, Management Information Measure | 53 | 12 | 636 | .5 | 318
9051 | Continued Weeks Compensated Time Lapse, Partial Part/Total, Management Information Measure | 53 | 12 | 636 | .5 | 318
9051 | Continued Weeks Compensated Time Lapse, Workshare, Management Information Measure | 53 | 12 | 636 | .5 | 318
9052 | Nonmonetary Determinations Time Lapse, Detection Date, Core Measure | 53 | 12 | 636 | 1.0 | 636
9054 | Lower Authority Appeals Time Lapse, Management Information Measure | 53 | 12 | 636 | .5 | 318
9055 | Lower Authority Appeals Case Aging, Core Measure | 53 | 12 | 636 | 1.0 | 636
9054 | Higher Authority Appeals Time Lapse, Management Information Measure | 53 | 12 | 636 | .5 | 318
9055 | Higher Authority Appeals Case Aging, Core Measure | 53 | 12 | 636 | 1.0 | 636
Subtotal |  |  |  |  |  | 4452

Quarterly Sample Review Measures: State Staff Hours per Year
ETA report | Measure | Number of respondents | Sampled cases reviewed per year | Total cases reviewed per year | Hrs. per resp. | Total hrs/year
9056 | Nonmonetary Determination Quality, Core Measure | 29 Small States | 240 | 6,960 | 1 | 6,960
9056 | Nonmonetary Determination Quality, Core Measure | 24 Large States | 400 | 9,600 | 1 | 9,600
9057 | Lower Authority Appeals Quality, Core Measure | 47 Small States | 80 | 3,760 | 3.5 | 13,160
9057 | Lower Authority Appeals Quality, Core Measure | 6 Large States | 160 | 960 | 3.5 | 3,360
Subtotal |  |  |  |  |  | 33,080

Estimated Total Burden Hours: 37,532 hours.

Total Burden Cost (operating/maintaining): $0.

Comments submitted in response to this comment request will be summarized and/or included in the request for Office of Management and Budget approval of the information collection request; they will also become a matter of public record.

Dated: July 23, 2007.
Cheryl Atkinson,
Administrator, Office of Workforce Security.

[FR Doc. E7-14519 Filed 7-26-07; 8:45 am]

BILLING CODE 4510-FW-P